DEPARTMENT OF ENERGY

Federal Energy Regulatory Commission

Combined Notice of Filings #1

Take notice that the Commission received the following electric rate filings:

Docket Numbers: ER10-1734-002.

Applicants: MXenergy Electric Inc.

Description: Notice of Change in Status of MXenergy Electric Inc.

Filed Date: 11/04/2011.

Accession Number: 20111104-5079.

Comment Date: 5 p.m. ET on 11/25/2011.

Docket Numbers: ER11-3420-003.

Applicants: Gridway Energy Corp.

Description: Supplemental Change in Status Notice to be effective 11/4/2011.

Filed Date: 11/04/2011.

Accession Number: 20111104-5023.

Comment Date: 5 p.m. ET on 11/25/2011.

Docket Numbers: ER11-4658-001.

Applicants: E Minus LLC.

Description: Amended Rate Schedule to be effective 11/4/2011.

Filed Date: 11/03/2011.

Accession Number: 20111103-5126.

Comment Date: 5 p.m. ET on 11/25/2011.

Docket Numbers: ER11-4665-002.

Applicants: North Branch Resources, LLC.

Description: Supplement to Category 1 Status Designation Request to be effective 11/4/2011.

Filed Date: 11/04/2011.

Accession Number: 20111104-5025.

Comment Date: 5 p.m. ET on 11/25/2011.

Docket Numbers: ER11-4721-001.

Applicants: New Hope Power Partnership.

Description: Revised New Hope FERC Electric Tariff Baseline Filing to be effective 11/4/2011.

Filed Date: 11/04/2011.

Accession Number: 20111104-5054.

Comment Date: 5 p.m. ET on 11/25/2011.

Docket Numbers: ER12-347-000.

Applicants: DB Energy Trading LLC.

Description: Rate Schedule FERC No. 1 Revision to be effective 11/3/2011.

Filed Date: 11/03/2011.

Accession Number: 20111103-5092.

Comment Date: 5 p.m. ET on 11/25/2011.

Docket Numbers: ER12-348-000.

Applicants: Mercuria Energy America, Inc.

Description: FERC Electric Baseline Tariff Filing to be effective 12/1/2011.

Filed Date: 11/03/2011.

Accession Number: 20111103-5093.

Comment Date: 5 p.m. ET on 11/25/2011.

Docket Numbers: ER12-349-000.

Applicants: Atlantic Path 15, LLC.

Description: Appendix I—Annual Update of the TRBAA to be effective 1/1/2012.

Filed Date: 11/03/2011.

Accession Number: 20111103-5125.

Comment Date: 5 p.m. ET on 11/25/2011.

Docket Numbers: ER12-350-000.

Applicants: Wolverine Trading, LLC.

Description: Wolverine Trading, LLC, FERC Electric MBR Tariff to be effective 11/4/2011.

Filed Date: 11/03/2011.

Accession Number: 20111103-5127.

Comment Date: 5 p.m. ET on 11/25/2011.

Docket Numbers: ER12-351-000.

Applicants: Midwest Independent Transmission System Operator, Inc.

Description: 11-03-11 MRES Attachments O, GG, and MM to be effective 1/1/2012 under ER12-351.

Filed Date: 11/03/2011.

Accession Number: 20111103-5131.

Comment Date: 5 p.m. ET on 11/25/2011.

Docket Numbers: ER12-352-000.

Applicants: Southern California Edison Company.

Description: SGIA WDT SERV AG SCE-Littlerock SGF1 Project to be effective 11/5/2011.

Filed Date: 11/04/2011.

Accession Number: 20111104-5005.

Comment Date: 5 p.m. ET on 11/25/2011.

Docket Numbers: ER12-353-000.

Applicants: Sconza Candy Company.

Description: Notice of cancellation of Sconza Candy Company.

Filed Date: 11/03/2011.

Accession Number: 20111103-5166.

Comment Date: 5 p.m. ET on 11/25/2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 4, 2011.
Nathaniel J. Davis, Sr.,
Deputy Secretary.

[FR Doc. 2011-29394 Filed 11-14-11; 8:45 am]

BILLING CODE 6717-01-P